COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 1/31/2013.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 10/12/2012 (77 FR 62219-62220), 10/19/2012 (77 FR 64326-64327) and 11/9/2012 (77 FR 67343-67344), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

NSN: 7920-00-NIB-0542—Scrub Brush, Polypropylene Bristles, Extension Pole-Compatible, 2” x 8”

NSN: 7920-00-NIB-0545—Scrub Brush, Wire, Knuckle Guard, Long Handle, Ergonomic, 6” x 1 1/8”, w/built-in scraper

NSN: 7920-00-NIB-0547—Scrub Brush, Wire, Stainless, Ergonomic, 5”

NSN: 7920-00-NIB-0558—Scrub Brush, Wire, Black Tempered, Ergonomic, 5”

NSN: 7920-00-NIB-0563—Wire Brush, Wire, Knuckle Guard, Long Handle, Ergonomic, 6” x 1 1/8”

NPA: Industries for the Blind, Inc., West Allis, WI.

Contracting Activity: General Services Administration, Fort Worth, TX Coverage: B-List for the Broad Government Requirement as aggregated by the General Services Administration.

Services

Service Type/Location: Custodial Services, Transportation Security Administration (TSA), 6100 E.M. Dirksen Parkway, Peoria International Airport, Peoria, IL.

NPA: Community Workshop and Training Center, Inc., Peoria, IL.

Contracting Activity: General Services Administration, Public Buildings Service, Property Management Service Center, Springfield, IL.

Service Type/Location: Administrative Services, Dept. of Housing and Urban Development (HUD), Multi-locations—Nationwide, 77 West Jackson Blvd. Rm. 2517, Mail Code: NFNC, Chicago, IL.

NPA: Nobis Enterprises, Inc., Marietta, GA.

Contracting Activity: Department of Housing and Urban Development, Chicago, IL.

Service Type/Location: Custodial and Grounds Maintenance Services, Rocky Mountain Metropolitan Airport (RMMA), Air Traffic Control Tower (ATCT) & Base Building, 11001 Control Tower Drive, Westminster, CO.

NPA: AspenPointe Employment, Colorado Springs, CO.

Contracting Activity: Dept of Transportation, Federal Aviation Administration, Renton, WA.

Barry S. Lineback,
Director, Business Operations.

[FR Doc. 2012-31380 Filed 12-28-12; 8:45 am]

BILLING CODE 6353-01-P